DEPARTMENT OF THE TREASURY

Nondiscrimination on the Basis of Sex in Education Programs or Activities Receiving Federal Financial Assistance

AGENCY: Department of the Treasury (“Treasury”).

ACTION: Notice of Department of the Treasury Financial Assistance Subject to Title IX of the Education Amendments of 1972, as amended.

SUMMARY: In accordance with Subpart F of the final common rule for the enforcement of Title IX of the Education Amendments of 1972, as amended (“Title IX”), this notice lists federal financial assistance administered by the U.S. Department of the Treasury that is covered by Title IX. Title IX prohibits recipients of federal financial assistance from discriminating on the basis of sex in education programs or activities. Subpart F of the Title IX common rule requires each federal agency that awards federal financial assistance to publish in the Federal Register a notice of the federal financial assistance covered by the Title IX regulations within sixty (60) days after the effective date of the final common rule. The final common rule for the enforcement of Title IX was published in the Federal Register by twenty-one (21) federal agencies, including Treasury, on August 30, 2000 (65 FR 52858-52895). Treasury's portion of the final common rule will be codified at 31 CFR Part 28.

SUPPLEMENTARY INFORMATION: Title IX prohibits recipients of federal financial assistance from discriminating on the basis of sex in educational programs or activities. Specifically, the statute states that “[n]o person in the United States shall, on the basis of sex, be excluded from participation in, be denied the benefits of, or be subjected to discrimination under any education program or activity receiving Federal financial assistance,” with specific exceptions for various entities, programs, and activities. 20 U.S.C. 1681(a). Title IX and the Title IX common rule prohibit discrimination on the basis of sex in the operation of, and the provision or denial of benefits by, education programs or activities conducted not only by educational institutions but by other entities as well, including, for example, law enforcement agencies, departments of corrections, and for profit and nonprofit organizations.

List of Federal Financial Assistance Administered by the Department of the Treasury to Which Title IX Applies

Note: All recipients of federal financial assistance from Treasury are subject to Title IX, but Title IX's anti-discrimination prohibitions are limited to the educational components of the recipient's program or activity, if any.

Failure to list a type of federal assistance below shall not mean, if Title IX is otherwise applicable, that a program or activity is not covered by Title IX.

1. Assistance provided by the Office of the Partnership in Education linking the various Treasury bureaus' educational and community outreach efforts, including: support activities for career academies and Adopt-A-School programs; identifying external and community resources in support of partnership objectives; Computers for Learning, the donation of surplus computer equipment, technology training and support to local schools; Professional Development Series, the workplace readiness training for high school internships; Achieves Initiative, to motivate students to attend and stay in school and to provide financial skills training; and coordination of volunteer efforts involving technology, mentoring and tutoring support for partnership schools. (National and Community Service Act of 1990, 42 U.S.C. 12501; 104 Stat. 3127—Public Law 101-610; and Executive Order 12999 and Executive Order 12820.)

2. Assistance provided by the Federal Law Enforcement Training Center, the Customs Service and the Secret Service in the form of training for state, local, and Federal law enforcement officers. (Omnibus Consolidated Appropriations Act of 1997, 110 Stat. 3009—Public Law 104-208.)

3. Assistance provided by the Community Development Financial Institution Fund in the form of capital to institutions serving distressed communities and low-income individuals. (Riegle Community Development and Regulatory Improvement Act of 1994, Public Law 103-325.)

4. Assistance provided by the Community Adjustment and Investment Program in the form of financial resources for loans or loan guarantees to create or retain private sector jobs in U.S. communities with significant job losses due to changes in trade patterns as a result of the North America Free Trade Agreement. (The North American Free Trade Agreement Implementation Act, 107 Stat. 2057—Public Law 103-182.)

5. Assistance provided by the Customs Service in the form of sharing seized items with other Federal, state, and local law enforcement agencies. (The Department of Treasury Forfeiture Fund, 31 U.S.C. 9703(a)(1)(G).)

6. Assistance provided by the Customs Service in the form of funding for overtime work to state and local agencies assisting Customs in law enforcement activities. (The Department of Treasury Forfeiture Fund, 31 U.S.C. 9703(a)(1)(I).)

7. Assistance provided by the Internal Revenue Service under the Low-Income Taxpayer Clinic (LITC) Program in the form of matching grants for qualifying organizations that provide legal assistance to low-income taxpayers in controversies with the IRS and/or inform Limited English Proficient (LEP) individuals of their tax rights and responsibilities. (IRS Restructuring and Reform Act of 1998, Public Law 105-206.)

8. Assistance provided by the Internal Revenue Service in the form of grants to non-profit organizations that operate Tax Counseling for the Elderly (TCE) programs, which train volunteers to provide free tax help to individuals 60 years of age and over and reimburse volunteers for mileage and other expenses incurred as part of the program. (Section 163 of the Revenue Act of 1978, 92 Stat. 2810—Public law 95-600.)

9. Assistance provided by the Bureau of Alcohol, Tobacco, and Firearms in the form of youth crime prevention focused on gang resistance open to all elementary, middle or junior high schools (Violent Crime Reduction Act, Public Law 103-322, section 32401.)

In addition to the above, further information on Treasury federal financial assistance can be found by consulting the Catalog of Federal Domestic Assistance (CFDA) at http://www.cfda.gov. If using the Internet site, please select “Search the Catalog,” select “Browse the Catalog—By Agency,” and then click on “The Department of Treasury.” Catalog information is also available by calling, toll free, 1-800-699-8331 or by writing to: Federal Domestic Assistance Catalog Staff (MVS), General Services Administration, Reporters Building, Room 101, 300 7th Street, SW., Washington, DC 20407.

The following is a list of other federal financial assistance administered by Treasury as derived from the CFDA. For further information on any of these types of federal financial assistance, please consult the CFDA. Abbreviations following each type of federal financial assistance indicate which Treasury Department component administers the relevant federal financial assistance, and are as follows: IRS—Internal Revenue Service; DO—Departmental Offices; ATF—Bureau of Alcohol, Tobacco, and Firearms; USSS—United States Secret Service.

Taxpayer Service—(IRS)

Exchange of Federal Tax Information With State Tax

Agencies—(IRS)

Bank Enterprise Award Program—(DO)

ATF Training Assistance—(ATF)

Secret Service Training Activities—(USSS)

Authority: 20 U.S.C. 1681-1688; 65 FR 52881, to be codified at 31 CFR Part 28.

Dated: January 11, 2001.
Lisa G. Ross,
Assistant Secretary for Management and Chief Financial Officer.

[FR Doc. 01-1596 Filed 1-19-01; 8:45 am]

BILLING CODE 4810-25-P